DEPARTMENT OF COMMERCE

National Oceanic and Atmospheric Administration

50 CFR Part 648

[I.D. 082901A]

Fisheries of the Northeastern United States; Supplemental Environmental Impact Statements (SEISs) for the Essential Fish Habitat (EFH) Components of the Monkfish, Atlantic Herring, and Atlantic Salmon Fishery Management Plans (FMPs)

AGENCY: National Marine Fisheries Service (NMFS), National Oceanic and Atmospheric Administration (NOAA), Commerce.

ACTION: Notification of intent to prepare an SEIS; request for comments; notice of scoping meeting.

SUMMARY: NMFS announces its intent to prepare SEISs in accordance with the National Environmental Policy Act of 1969 (NEPA) for the EFH components of the Monkfish, Atlantic Herring, and Atlantic Salmon FMPs. NMFS will hold a public scoping meeting and accept written comments to determine the range of management alternatives to be addressed in the SEISs to describe and identify EFH for these fisheries, minimize to the extent practicable the adverse effects of fishing on EFH, and identify other actions to encourage the conservation and enhancement of EFH.

DATES: NMFS will accept written comments through November 9, 2001. A public scoping meeting will be held on September 27, 2001, from 2:30 until 4:30 p.m.

ADDRESSES: Written comments on the intent to prepare the SEISs and requests for the scoping document or other information should be directed to the National Marine Fisheries Service, One Blackburn Drive, Gloucester, MA 01930, Attn: Louis A. Chiarella. Comments may also be sent via facsimile (fax) to (978) 281-9301. NMFS will not accept unsigned faxes or comments by e-mail. The public meeting will be held at the NMFS Northeast Regional Office, One Blackburn Drive, Gloucester, MA, on September 27, 2001.

FOR FURTHER INFORMATION CONTACT: Louis A. Chiarella, Essential Fish Habitat Coordinator, 978-281-9277, fax 978-281-9301, e-mail Lou.Chiarella@noaa.gov.

SUPPLEMENTARY INFORMATION: In response to a U.S. District Court Order (AOC v. Daley, September 14, 2000), the NMFS is re-evaluating the EFH components of Amendment 1 to the Monkfish FMP, the Atlantic Herring FMP and Amendment 1 to the Atlantic Salmon FMP. The EFH sections being re-evaluated for these fisheries were developed as part of an EFH Omnibus Amendment and were approved by the Secretary of Commerce for monkfish on April 22, 1999, Atlantic herring on October 27, 1999, and Atlantic salmon on April 21, 1999. NMFS will prepare SEISs and will consider EFH and Habitat Areas of Particular Concern (HAPC) for these fisheries, as well as fishing and non-fishing threats to EFH as required under the Magnuson-Stevens Fishery Conservation and Management Act.

NMFS is considering the need to revise the EFH designations for monkfish, Atlantic herring, and Atlantic salmon based upon any available new scientific information and is considering potential HAPC designations. NMFS will consider a range of alternatives to minimize adverse effects of fishing activities on EFH.

NMFS and the New England Fishery Management Council (Council) will jointly develop EFH analysis and management alternatives for the Monkfish, Atlantic Herring, and Atlantic Salmon FMPs. Analysis and subsequent management alternatives may be presented as one NEPA document addressing EFH for all three species, as two or more separate NEPA documents addressing the EFH for each species separately or in combination with another species, or (3) as part of a combined NEPA document that also addresses other fisheries management issues for one or more of these species.

The public is invited and encouraged to assist NMFS and the Council in developing the scope of EFH alternatives to be analyzed.

Public Information Meeting

The public scoping meeting will be held on September 27, 2001, from 2:30 until 4:30 p.m., at the NMFS Northeast Regional Office, One Blackburn Drive, Gloucester, MA, Conference Room.

Special Accommodations

This meeting is physically accessible to people with disabilities. Requests for sign language interpretation or other auxiliary aids should be directed to Louis A. Chiarella (see FOR FURTHER INFORMATION CONTACT) at least 5 days prior to the meeting date.

Authority: 16 U.S.C. 1801 et seq.

Dated: September 5, 2001.
Bruce C. Morehead,
Acting Director, Office of Sustainable Fisheries, National Marine Fisheries Service.

[FR Doc. 01-22648 Filed 9-7-01; 8:45 am]

BILLING CODE 3510-22-S